NUCLEAR REGULATORY COMMISSION

Office of Nuclear Material Safety and Safeguards: Status of Decommissioning Program—2004 Annual Report; Notice of Availability

AGENCY: Nuclear Regulatory Commission.

ACTION: Notice of availability.

FOR FURTHER INFORMATION CONTACT: John T. Buckley, Mail Stop: T-7E18, Decommissioning Directorate, Division of Waste Management and Environmental Protection, Office of Nuclear Material Safety and Safeguards, U.S. Nuclear Regulatory Commission, Washington, DC 20555-0001, Telephone: (301) 415-6607, and Internet: jtb@nrc.gov.

SUPPLEMENTARY INFORMATION:

I. Summary

The Nuclear Regulatory Commission's (NRC's) Office of Nuclear Material Safety and Safeguards (NMSS) is announcing the availability of NUREG-1814, “Status of Decommissioning Program—2004 Annual Report.” This NUREG provides a comprehensive overview of the NRC's decommissioning program. Its purpose is to provide a stand-alone reference document which describes the decommissioning process and summarizes the current status of all decommissioning activities including the decommissioning of complex decommissioning sites, commercial reactors, research and test reactors, uranium mill tailings facilities; and fuel cycle facilities. In addition, this report discusses accomplishments in the decommissioning program since publication of the 2003 annual report (SECY-03-0161); and it identifies the key decommissioning program issues which the staff will address in fiscal year (FY) 2005.

II. Further Information

NUREG-1814 is available for inspection and copying for a fee at the Commission's Public Document Room, U.S. NRC's Headquarters Building, 11555 Rockville Pike (First Floor), Rockville, Maryland. The Public Document Room is open from 7:45 a.m. to 4:15 p.m., Monday through Friday, except on Federal holidays.

NUREG-1814 is also available for inspection at NRC's Public Electronic Reading Room at: http://www.nrc.gov/NRC/ADAMS/index.html. The ADAMS Accession No. for the NUREG is ML050480398. Copies of NUREG-1814 may be purchased from one of these two sources: (1) The Superintendent of Documents, U.S. Government Printing Office, Mail Stop: SSOP, Washington, DC 20402-0001; Internet: http://bookstore.gpo.gov; telephone: 202-512-1800; fax: 202-512-2250; or (2) The National Technical Information Service, Springfield, VA 22161-0002, Internet: http://www.ntis.gov; telephone 1-800-553-6847 or, locally, 703-605-6000.

Dated in Rockville, Maryland, this 4th day of March, 2005.
For the Nuclear Regulatory Commission.
Daniel M. Gillen,
Deputy Director, Decommissioning Directorate, Division of Waste Management and Environmental Protection, Office of Nuclear Material Safety and Safeguards.

[FR Doc. 05-4791 Filed 3-10-05; 8:45 am]

BILLING CODE 7590-01-P